DEPARTMENT OF TRANSPORTATION

Federal Highway Administration

Environmental Impact Statement; Rutland County, VT

AGENCY: Federal Highway Administration (FHWA), DOT.

ACTION: Notice of Intent.

SUMMARY: The FHWA is issuing this notice to advise the public that an environmental impact statement is no longer being prepared for a previously proposed highway project [FEGC 419-3(44)] in Rutland County, Vermont.

FOR FURTHER INFORMATION CONTACT: Kenneth R. Sikora, Jr., FHWA Environmental Program Manager, P.O. Box 568, Montpelier, Vermont 05601, telephone: (802) 828-4423; or David J. Scott, P.E., Director of Project Development, Vermont Agency of Transportation, National Life Building, Drawer 33, Montpelier, Vermont 05633-5001, telephone: (802) 828-2663.

SUPPLEMENTARY INFORMATION: A Notice of Intent to prepare an Environmental Impact Statement for a bypass or upgrade of U.S. Routes 4 and 7 in Rutland, Vermont, was published by FHWA in the March 22, 1993 Federal Register. A Notice of Availability for the Draft Environmental Impact Statement (DEIS) for the proposed project was issued in the December 19, 1997 Federal Register. The DEIS was circulated with the comment period ending on March 6, 1998.

Because of the many environmental issues associated with the preferred alternative, the Vermont Legislature terminated the environmental impact study for the project in Section 1(c)(2) of Act 156 of the 1999-2000 Legislative Session. Accordingly, FHWA has determined that a Final Environmental Impact Statement will not be prepared. (Catalog of Federal Domestic Assistance Program Number 20.205, Highway Planning and Construction. The regulations implementing Executive Order 12372 regarding intergovernmental consultation on Federal programs and activities apply to this program.)

Issued on October 19, 2000.
Kenneth R. Sikora, Jr.,
Environmental Program Manager, Montpelier, Vermont.

[FR Doc. 00-27603 Filed 10-26-00; 8:45 am]

BILLING CODE 4910-22-M